DEPARTMENT OF ENERGY

Federal Energy Regulatory Commission

[Project No. 2206-021]

Carolina Power & Light Company; Notice of Availability of Draft Environmental Assessment

May 9, 2003.

A draft environmental assessment (DEA) is available for public review. The DEA analyzes the environmental impacts of a Shoreline Management Plan (SMP) filed for the Tillery Development of the Yadkin—Pee Dee River Project. The project is located on the Yadkin—Pee Dee River in Anson, Richmond, Montgomery, and Stanly Counties, North Carolina. The Tillery Development is located on the Pee Dee River in Stanly and Montgomery counties, North Carolina. Lake Tillery, the upper reservoir of the Yadkin—Pee Dee Project, is owned and operated by Carolina Power & Light Company (CP&L).

The DEA was written by staff in the Office of Energy Projects, Federal Energy Regulatory Commission. Commission staff concludes that approving the SMP would not constitute a major Federal action significantly affecting the quality of the human environment. The DEA is available for review at the Commission or may be viewed on the Commission's Web site at http://www.ferc.gov, using the “FERRIS” link. Enter the docket number excluding the last three digits in the docket number filed to access the document. For assistance, contact FERC Online Support at FERCOnlineSupport@ferc.gov or toll-free at (866) 208-3676, or for TTY, contact (202) 502-8659.

Anyone may file comments on the DEA. The public as well as Federal and state resource agencies are encouraged to provide comments. All written comments must be filed within 45 days of the issuance date of this notice shown above. Send an original and eight copies of all comments marked with the project number, P-2206-021, to: The Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings.

If you have any questions regarding this notice, please call Shana High at (202) 502-8674.

Magalie R. Salas,
Secretary.

[FR Doc. 03-12330 Filed 5-15-03; 8:45 am]

BILLING CODE 6717-01-P